DEPARTMENT OF COMMERCE

National Oceanic and Atmospheric Administration

15 CFR Part 902

50 CFR Part 622

[Docket No. 110620342-1659-03]

RIN 0648-BB55

Fisheries of the Caribbean, Gulf of Mexico, and South Atlantic; Snapper-Grouper Fishery Off the Southern Atlantic States; Amendment 15B

AGENCY: National Marine Fisheries Service (NMFS), National Oceanic and Atmospheric Administration (NOAA), Commerce.

ACTION: Final rule; effectiveness of collection-of-information requirements.

SUMMARY: NMFS announces approval by the Office of Management and Budget (OMB) of collection-of-information requirements contained in regulations implementing Amendment 15B to the Fishery Management Plan for the Snapper-Grouper Fishery of the South Atlantic Region (FMP). This rule makes effective the collection-of-information requirements published on November 16, 2009, and identified below.

DATES: The amendments to 15 CFR 902.1 in this rule are effective December 5, 2011. Amendments to §§ 622.5(a)(1)(iv), (b)(1), and (b)(2); § 622.8(a)(6); and § 622.18(b)(1)(ii) published at 74 FR 58902 (November 16, 2009) are effective December 5, 2011.

ADDRESSES: Written comments regarding the burden-hour estimates or other aspects of the collection-of-information requirements contained in this final rule may be submitted to Rich Malinowski, Southeast Regional Office, NMFS, 263 13th Ave South, St. Petersburg, FL 33701; and OMB, by email at OIRASubmission@omb.eop.gov, or fax to (202) 395-7285.

FOR FURTHER INFORMATION CONTACT: Kate Michie, telephone: (727) 824-5305.

SUPPLEMENTARY INFORMATION: On November 16, 2009 (74 FR 58902), NMFS published a final rule to implement Amendment 15B to the FMP. That final rule contained collection-of-information requirements subject to the Paperwork Reduction Act (PRA) that were pending OMB approval at the time of publication. The rule delayed the effectiveness of those provisions of the rule with public reporting requirements until NMFS published OMB's approval of the collections. OMB approved these collection-of-information requirements on January 4, 2010 and January 27, 2010, under OMB control number 0648-0603 (South Atlantic snapper-grouper reporting requirements), and on April 12, 2011, under OMB control number 0648-0593 (South Atlantic snapper-grouper observer coverage requirements). Accordingly, this final rule makes effective the collection-of-information requirements at § 622.5(a)(1)(iv), (b)(1), and (b)(2); § 622.8(a)(6); and § 622.18(b)(1)(ii) on December 5, 2011. The collection-of-information requirement at § 622.5(g), which includes reporting requirements for the South Atlantic snapper-grouper recreational sector, will not be submitted for approval until further information on burden hour estimates can be obtained from the fishery.

Classification

This final rule has been determined to be not significant for purposes of Executive Order 12866.

This final rule contains collection-of-information requirements subject to the PRA which have been approved under OMB control numbers 0648-0603 and 0648-0593. The public reporting burdens for these collections of information are estimated to average: (1) 4 minutes for each notification of a vessel trip, (2) 20 minutes for each vessel and gear characterization form, (3) 31 minutes for each electronic logbook installation and data download, (4) 8 hours for each video monitor installation and data download, and (5) 20 minutes for each change of ownership. These estimates of the public reporting burdens include the time for reviewing instructions, searching existing data sources, gathering and maintaining the data needed, and completing and reviewing the collections of information. Send comments regarding the burden estimates or any other aspect of the collection-of-information requirements, including suggestions for reducing the burden, to NMFS and to OMB (see ADDRESSES).

Notwithstanding any other provision of the law, no person is required to respond to, and no person shall be subject to penalty for failure to comply with, a collection of information subject to the requirements of the PRA, unless that collection of information displays a currently valid OMB control number.

List of Subjects in 15 CFR Part 902

Reporting and recordkeeping requirements.

Dated: November 1, 2011.
John Oliver,
Deputy Assistant Administrator for Operations, National Marine Fisheries Service.

For the reasons set out in the preamble, 15 CFR part 902 is amended as follows:

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, the table in paragraph (b), under 50 CFR, is amended by revising the OMB control numbers for §§ 622.5, 622.8, and 622.18, to read as follows:

§ 902.1 OMB control numbers assigned pursuant to the Paperwork Reduction Act.

* * * * *

(b) * * *

CFR part or section where the information collection requirement is located | Current OMB control number (all numbers begin with 0648-)
* * * * * * *
50 CFR
* * * * * * *
622.5 | −0013, −0016, −0392, and −0593.
* * * * * * *
622.8 | −0205 and −0593.
* * * * * * *
622.18 | −0205 and −0593.
* * * * * * *

[FR Doc. 2011-28662 Filed 11-3-11; 8:45 am]

BILLING CODE 3510-22-P